DEPARTMENT OF COMMERCE

National Oceanic and Atmospheric Administration

RIN 0648-XG339

South Atlantic Fishery Management Council; Public Meetings

AGENCY: National Marine Fisheries Service (NMFS), National Oceanic and Atmospheric Administration (NOAA), Commerce.

ACTION: Notice of public scoping meetings.

SUMMARY: The South Atlantic Fishery Management Council (Council) will hold a series of public scoping meetings via webinar pertaining to three amendments to the Snapper Grouper Fishery Management Plan (FMP) for the South Atlantic Region. Amendment 47 considers modifications to the federally permitted South Atlantic snapper grouper for-hire fishery. Regulatory Amendment 29 considers options to implement best fishing practices and remove powerhead restrictions in the federal waters off the coast of South Carolina. Regulatory Amendment 32 addresses options for revisions to the in-season accountability measures for yellowtail snapper.

DATES: The scoping meetings will be held via webinar on the following dates: Amendment 47—August 6, August 9, and August 14, 2018; Regulatory Amendment 29—August 7 and August 8, 2018 and; Regulatory Amendment 32—August 15 and August 16, 2018.

ADDRESSES: The scoping meetings will be conducted via webinar.

Council address: South Atlantic Fishery Management Council, 4055 Faber Place Drive, Suite 201, N. Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The scoping meetings will be conducted via webinar accessible via the internet from the Council's website at www.safmc.net. The scoping meetings will begin at 6 p.m. Registration for the webinars is required. Registration information will be posted on the Council's website at www.safmc.net as it becomes available.

Public scoping is the beginning phase of amendment development. The Council will gather public input and ideas on how to solve a fishery problem or address a need. The public is encouraged to identify issues, potential impacts, and reasonable solutions for options being considered in each amendment.

Amendment 47 to the Snapper Grouper FMP

Amendment 47 considers options for limiting entry into the for-hire Snapper Grouper fishery, establishing a mechanism that would allow new entrants into the for-hire Snapper Grouper fishery under limited entry, and modifying regulations that prevent anglers onboard federally permitted for-hire Snapper Grouper vessels from possessing Snapper Grouper species in state waters when harvest of these species closes in federal waters.

Regulatory Amendment 29 to the Snapper Grouper FMP

Regulatory Amendment 29 addresses the use of best fishing practices to reduce discards and discard mortality for species in the snapper grouper management complex, including: The use of venting tools and descending devices to release fish experiencing barotrauma, modification to the non-stainless-steel circle hook requirement, and specification of allowable rigs. The draft amendment also includes options to modify current regulations for the use of powerhead gear.

Regulatory Amendment 32 to the Snapper Grouper Fishery Management Plan

Regulatory Amendment 32 considers modifications to yellowtail snapper accountability measures (AM) to minimize the probability of in-season closures and consequent socio-economic impacts.

During the scoping meetings, Council staff will present an overview of the amendment and will be available for informal discussions and to answer questions via webinar. Members of the public will have an opportunity to go on record to record their comments for consideration by the Council. Public scoping documents and presentations for each amendment will be posted to the Council's website at http://safmc.net/safmc-meetings/public-hearings-scoping-meetings/ as they become available.

Written comments may also be submitted and must be received by 5 p.m. on August 17, 2018. The Council requests that written comments be submitted using the online public comment forms that will be posted the Council's website at http://safmc.net/safmc-meetings/public-hearings-scoping-meetings/ as they become available. Written comments may also be submitted to: Gregg Waugh, Executive Director, South Atlantic Fishery Management Council, 4055 Faber Place Drive, Suite 201, N. Charleston, SC 29405.

Special Accommodations

These meetings are physically accessible to people with disabilities. Requests for auxiliary aids should be directed to the council office (see ADDRESSES) 5 days prior to the meeting.

Note: The times and sequence specified in this agenda are subject to change.

Authority: 16 U.S.C. 1801 et seq.

Dated: July 16, 2018.
Tracey L. Thompson,
Acting Deputy Director, Office of Sustainable Fisheries, National Marine Fisheries Service.

[FR Doc. 2018-15456 Filed 7-18-18; 8:45 am]

BILLING CODE 3510-22-P